DEPARTMENT OF HEALTH AND HUMAN SERVICES

Administration for Children and Families

Office of Child Support Enforcement

AGENCY: Office of Child Support Enforcement (OCSE), Administration for Children and Families (ACF), Department of Health and Human Services (HHS).

ACTION: Notice to administratively impose a matching requirement.

CFDA Number: 93.564.

Legislative Authority

Section 1115 of the Social Security Act [42 U.S.C. 1315] provides funds for experimental, pilot or demonstration projects that are likely to assist in promoting the objectives of Part D of the Title IV. The projects must be designed to improve the financial well-being of children or otherwise improve the operation of the child support program. Projects may not permit modifications in the child support program that would have the effect of disadvantaging children in need of support.

SUMMARY: The Office of Child Support Enforcement (OCSE) in the Administration for Children and Families (ACF) hereby gives notice to the public that a matching requirement of five percent (5%) will be administratively imposed upon awards made under competitions governed by the following “Section 1115” funding opportunities in Fiscal Year 2009.

Funding opportunity No. | Funding opportunity title | CFDA No.
HHS-2009-ACF-OCSE-FD-0093 | Partnership to Strengthen Families—Child Support Enforcement/Temporary Assistance for Needy Families—University Partnership Demonstration Project | 93.654
HHS-2009-ACF-OCSE-FD-0095 | Projects to Address the Sudden and Prolonged Effect of the Economic Downturn on the IV-D Caseload and Program Operations | 93.654
HHS-2009-ACF-OCSE-FD-0098 | Health Care/Medical Support in Child Support Enforcement: Reform Strategy Grants | 93.654

Historically, the imposition of a matching requirement on awards under this program resulted in an increased level of commitment to the project and its success and sustainability, without creating an undue financial burden on the grantee.

Section 1115 funds awarded to each project will represent 29 percent (29%) of the total project costs. The total approved project cost is the sum of the ACF grant award under Section 1115, regular Federal Financial Participation (FFP), and the State share. For the purposes of the demonstration projects, the total expenditures will be treated as State expenditures under Title IV-D that will be reimbursed by the regular Title IV-D FFP match of 66 percent (66%). Applicants must prepare a formal budget on the required standard forms, as listed in Section IV.2, Content and Form of Application Submission of the funding opportunity announcements.

Grantees must provide at least five percent (5%) of the total approved project cost. This non-Federal, i.e., State share, may be met by cash, incentive funds (awarded under section 458 of the Social Security Act), or in-kind contributions. The five percent (5%) match may be provided through in-kind contributions, as allowed by section 1115(a)(2)(A) of the Social Security Act. For example, if an applicant's total project budget is $150,000, this would be made up of three funding sources: Section 1115 funds (29% = $43,500), cost sharing (5% = $7,500) and regular Title IV-D Federal Financial Participation/FFP (66% = $99,000).

Title IV-D applicants that anticipate satisfying the matching requirement through in-kind contributions, or the use of incentive funds awarded under section 458 of the Social Security Act, must request prior approval as part of the required budget justification (see Section IV.2. Budget and Budget Justification in the published funding opportunity announcements) in accordance with section 1115(a)(2)(A) of the Social Security Act. Costs borne by matching contributions are subject to the regulations governing allowability found under and 45 CFR 92.24.

Eligible applicants for these Section 1115 demonstration project grants are State (including the District of Columbia, Guam, Puerto Rico, and the Virgin Islands) Title IV-D agencies or the umbrella agencies of the IV-D program.

Planned ACF funding opportunity announcements may be found at the HHS Grants Forecast Web site at http://www.hhs.gov/grantsforecast/. The HHS's Grants Forecast is a database of planned funding opportunities proposed by its operating divisions, including ACF. Each Forecast record contains actual or estimated dates and funding levels for awards that an operating division intends to award during the fiscal year. ACF's publicly published funding opportunity announcements are available on http://www.Grants.gov, where applicants may also apply for funding electronically, and on the ACF Grant Opportunities Web page at http://www.acf.hhs.gov/grants/.

FOR FURTHER INFORMATION CONTACT: Myles Schlank, Office of Child Support Enforcement, 370 L'Enfant Promenade, SW., Washington, DC 20047. Telephone: 202-401-9329, e-mail: myles.schlank@acf.hhs.gov.

Dated: June 15, 2009.
Robert Cohen,
Acting Commissioner, Program Office: Child Support Enforcement.

[FR Doc. E9-14363 Filed 6-18-09; 8:45 am]

BILLING CODE P